FEDERAL ELECTION COMMISSION

[Notice 2017-07]

Filing Dates for the South Carolina Special Elections in the 5th Congressional District

AGENCY: Federal Election Commission.

ACTION: Notice of filing dates for special election.

SUMMARY: South Carolina has scheduled special elections to fill the U.S. House of Representatives seat in the 5th Congressional District vacated by Representative Mick Mulvaney.

FOR FURTHER INFORMATION CONTACT: Ms. Elizabeth S. Kurland, Information Division, 999 E Street NW., Washington, DC 20463; Telephone: (202) 694-1100; Toll Free (800) 424-9530.

SUPPLEMENTARY INFORMATION: There are three possible special elections, but only two may be necessary.

• Primary Election: May 2, 2017.

• Possible Runoff Election: May 16, 2017. In the event that one candidate does not achieve a majority vote in his/her party's Special Primary Election, the top two vote-getters will participate in a Special Runoff Election.

• General Election: June 20, 2017.

Principal Campaign Committees

Special Primary Only

All principal campaign committees of candidates only participating in the South Carolina Special Primary shall file a Pre-Primary Report on April 20, 2017. (See charts below for the closing date for the report).

Special Primary and General Without Runoff

If only two elections are held, all principal campaign committees of candidates participating in the South Carolina Special Primary and Special General Elections shall file a Pre-Primary Report on April 20, 2017; a Pre-General Report on June 8, 2017; and a Post-General Report on July 21, 2017. (See charts below for the closing date for each report).

Special Primary and Runoff Elections

If three elections are held, all principal campaign committees of candidates only participating in the South Carolina Special Primary and Special Runoff Elections shall file a Pre-Primary Report on April 20, 2017; and a Pre-Runoff Report on May 4, 2017. (See charts below for the closing date for each report.)

Special Primary, Runoff and General Elections

All principal campaign committees of candidates participating in the South Carolina Special Primary, Special Runoff and Special General Elections shall file a Pre-Primary Report on April 20, 2017; a Pre-Runoff Report on May 4, 2017; a Pre-General Report on June 8, 2017; and a Post-General Report on July 21, 2017. (See charts below for the closing date for each report.)

Note that these reports are in addition to the campaign committee's regular quarterly filings. (See charts below for the closing date for each report).

Unauthorized Committees (PACs and Party Committees)

Political committees not filing monthly in 2017 are subject to special election reporting if they make previously undisclosed contributions or expenditures in connection with the South Carolina Special Primary, Special Runoff or Special General Elections by the close of books for the applicable report(s). (See charts below for the closing date for each report.)

Committees filing monthly that make contributions or expenditures in connection with the South Carolina Special Primary, Special Runoff or Special General Elections will continue to file according to the monthly reporting schedule.

Additional disclosure information in connection with the South Carolina Special Elections may be found on the FEC Web site at http://www.fec.gov/info/report_dates.shtml.

Disclosure of Lobbyist Bundling Activity

Principal campaign committees, party committees and Leadership PACs that are otherwise required to file reports in connection with the special elections must simultaneously file FEC Form 3L if they receive two or more bundled contributions from lobbyists/registrants or lobbyist/registrant PACs that aggregate in excess of $17,900 during the special election reporting periods. (See charts below for closing date of each period.) 11 CFR 104.22(a)(5)(v), (b).

Calendar of Reporting Dates for South Carolina Special Elections
Report | Close of books ¹ | Reg./Cert. & overnight mailing deadline | Filing deadline
Campaign Committees Involved in Only the Special Primary (05/02/17) Must File:
April Quarterly | WAIVED
Pre-Primary | 04/12/17 | 04/17/17 | 04/20/17
July Quarterly | 06/30/17 | 07/15/17 | ² 07/15/17
Participating PACs and Party Committees not Filing Monthly Involved in Only the Special Primary (05/02/17) Must File:
Pre-Primary | 04/12/17 | 04/17/17 | 04/20/17
Mid-Year | 06/30/17 | 07/31/17 | 07/31/17
If Only Two Elections Are Held, Campaign Committees Involved in Both the Special Primary (05/02/17) and Special General (06/20/17) Must File:
April Quarterly | WAIVED
Pre-Primary | 04/12/17 | 04/17/17 | 04/20/17
Pre-General | 05/31/17 | 06/05/17 | 06/08/17
July Quarterly | WAIVED
Post-General | 07/10/17 | 07/21/17 | 07/21/17
October Quarterly | 09/30/17 | 10/15/17 | ² 10/15/17
If Only Two Elections Are Held, PACs and Party Committees not Filing Monthly Involved in Both the Special Primary (05/02/17) and Special General (06/20/17) Must File:
Pre-Primary | 04/12/17 | 04/17/17 | 04/20/17
Pre-General | 05/31/17 | 06/05/17 | 06/08/17
Post-General | 07/10/17 | 07/21/17 | 07/21/17
Mid-Year | WAIVED
Year-End | 12/31/17 | 01/31/18 | 01/31/18
If Only Two Elections Are Held, Campaign Committees Involved in Only the Special General (06/20/17) Must File:
Pre-General | 05/31/17 | 06/05/17 | 06/08/17
July Quarterly | WAIVED
Post-General | 07/10/17 | 07/21/17 | 07/21/17
October Quarterly | 09/30/17 | 10/15/17 | ² 10/15/17
If Only Two Elections Are Held, PACs and Party Committees not Filing Monthly Involved in Only the Special General (06/20/17) Must File:
Pre-General | 05/31/17 | 06/05/17 | 06/08/17
Post-General | 07/10/17 | 07/21/17 | 07/21/17
Mid-Year | WAIVED
Year-End | 12/31/17 | 01/31/18 | 01/31/18
If Three Elections Are Held, Campaign Committees Involved in Only the Special Primary (05/02/17) and Special Runoff (05/16/17) Must File:
April Quarterly | WAIVED
Pre-Primary | 04/12/17 | 04/17/17 | 04/20/17
Pre-Runoff | 04/26/17 | ³ 05/04/17 | 05/04/17
July Quarterly | 06/30/17 | 07/15/17 | ² 07/15/17
If Three Elections Are Held, PACs and Party Committees not Filing Monthly Involved in Only the Special Primary (05/02/17) and Special Runoff (05/16/17) Must File:
Pre-Primary | 04/12/17 | 04/17/17 | 04/20/17
Pre-Runoff | 04/26/17 | ³ 05/04/17 | 05/04/17
Mid-Year | 06/30/17 | 07/31/17 | 07/31/17
If Three Elections Are Held, Campaign Committees Involved in Only the Special Runoff (05/16/17) Must File:
Pre-Runoff | 04/26/17 | ³ 05/04/17 | 05/04/17
July Quarterly | 06/30/17 | 07/15/17 | ² 07/15/17
If Three Elections Are Held, PACs and Party Committees not Filing Monthly Involved in Only the Special Runoff (05/16/17) Must File:
Pre-Runoff | 04/26/17 | ³ 05/04/17 | 05/04/17
Mid-Year | 06/30/17 | 07/31/17 | 07/31/17
Campaign Committees Involved in the Special Primary (05/02/17), Special Runoff (05/16/17) and Special General (06/20/17) Must File:
April Quarterly | WAIVED
Pre-Primary | 04/12/17 | 04/17/17 | 04/20/17
Pre-Runoff | 04/26/17 | ³ 05/04/17 | 05/04/17
Pre-General | 05/31/17 | 06/05/17 | 06/08/17
July Quarterly | WAIVED
Post-General | 07/10/17 | 07/21/17 | 07/21/17
October Quarterly | 09/30/17 | 10/15/17 | ² 10/15/17
PACs and Party Committees not Filing Monthly Involved in the Special Primary (05/02/17), Special Runoff (05/16/17) and Special General (06/20/17) Must File:
Pre-Primary | 04/12/17 | 04/17/17 | 04/20/17
Pre-Runoff | 04/26/17 | ³ 05/04/17 | 05/04/17
Pre-General | 05/31/17 | 06/05/17 | 06/08/17
Post-General | 07/10/17 | 07/21/17 | 07/21/17
Mid-Year | WAIVED
Year-End | 12/31/17 | 01/31/18 | 01/31/18
If Three Elections Are Held, Campaign Committees Involved in Only the Special General (06/20/17) Must File:
Pre-General | 05/31/17 | 06/05/17 | 06/08/17
July Quarterly | WAIVED
Post-General | 07/10/17 | 07/21/17 | 07/21/17
October Quarterly | 09/30/17 | 10/15/17 | ² 10/15/17
If Three Elections Are Held, PACs and Party Committees not Filing Monthly Involved in Only the Special General (06/20/17) Must File:
Pre-General | 05/31/17 | 06/05/17 | 06/08/17
Post-General | 07/10/17 | 07/21/17 | 07/21/17
Mid-Year | WAIVED
Year-End | 12/31/17 | 01/31/18 | 01/31/18
¹ The reporting period always begins the day after the closing date of the last report filed. If the committee is new and has not previously filed a report, the first report must cover all activity that occurred before the committee registered as a political committee up through the close of books for the first report due.
² Notice that this filing deadline falls on a weekend or federal holiday. Filing deadlines are not extended when they fall on nonworking days. Accordingly, reports filed by methods other than registered, certified or overnight mail must be received by close of business on the last business day before the deadline.
³ The mailing deadline is the same as the filing deadline because the computed mailing deadline would fall one day before the primary is held.

On behalf of the Commission,
Dated: February 27, 2017.
Steven T. Walther,
Chairman, Federal Election Commission.

[FR Doc. 2017-05055 Filed 3-13-17; 8:45 am]

BILLING CODE 6715-01-P